NATIONAL AERONAUTICS AND SPACE ADMINISTRATION

[Notice 03-022]

Government-Owned Inventions, Available for Licensing

ACTION: Notice of availability of inventions for licensing.

SUMMARY: The invention listed below is assigned to the National Aeronautics and Space Administration, has been filed in the United States Patent and Trademark Office, and is available for licensing.

DATES: February 25, 2003.

FOR FURTHER INFORMATION CONTACT: Linda Blackburn, Patent Counsel, NASA Langley Research Center, Mail Code 212, Hampton, VA 23681-2199; telephone (757) 864-9260, fax (757) 864-9190.

NASA Case No. LAR-16383-1-NP: Electrically Conductive, Optically Transparent Polymer/Carbon Nanotube Composites And Process For Preparation Thereof.

Dated: February 19, 2003.
Robert M. Stephens,
Deputy General Counsel.

[FR Doc. 03-4435 Filed 2-25-03; 8:45 am]

BILLING CODE 7510-01-P